DEPARTMENT OF TRANSPORTATION

Federal Aviation Administration

14 CFR Part 73

[Airspace Docket No. 99-ANM-15]

Proposed Reconfiguration, Revision, and Establishment of Restricted Areas; ID

AGENCY: Federal Aviation Administration (FAA), DOT.

ACTION: Notice of proposed rulemaking (NPRM).

SUMMARY: This action proposes to reconfigure Restricted Area 3202A (R-3202A), Saylor Creek, ID by establishing a High area from FL 180 to FL 290 and a Low area from the surface to, but not including, FL 180 within the existing R-3202A, and to revoke Restricted Areas 3202B and C (R-3202B and R-3202C). Additionally, this action proposes to establish three new Restricted Areas (R-3204A, B, and C) at Juniper Butte, ID. The FAA is proposing these efforts to support the United States Air Force (USAF) rapid-response air expeditionary wing training.

DATES: Comments must be received on or before June 9, 2000.

ADDRESSES: Send comments on the proposal in triplicate to: Manager, Air Traffic Division, ANM-500, Docket No. 99-ANM-15, Federal Aviation Administration, 1601 Lind Avenue, SW., Renton, WA 98055-4056.

The official docket may be examined in the Rules Docket, Office of the Chief Counsel, Room 916, 800 Independence Avenue, SW., Washington, DC, weekdays, except Federal holidays, between 8:30 a.m. and 5:00 p.m.

An informal docket may also be examined during normal business hours at the office of the Regional Air Traffic Division.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 99-ANM-15.” The postcard will be date/time stamped and returned to the commenter. Send comments on environmental and land-use aspects to: Headquarters ACC/DOR Air Combat Command Airspace and Range Management Division, 205 Dodd Blvd, Ste 101, Langley AFB, VA 23665-2789. All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded, using a modem and suitable communications software, from the FAA regulations section of the Fedworld electronic bulletin board service (telephone: 703-321-3339) or the Federal Register's electronic bulletin board service (telephone: 202-512-1661).

Internet users may reach the FAA's web page at http://www.faa.gov or the Superintendent of Document's web page at http://www.access.gpo.gov/nara for access to recently published rulemaking documents.

Any person may obtain a copy of this NPRM by submitting a request to the Federal Aviation Administration, Office of Air Traffic Airspace Management, ATA-400, 800 Independence Avenue, SW., Washington, DC 20591, or by calling (202) 267-8783. Communications must identify the notice number of this NPRM. Persons interested in being placed on a mailing list for future NPRM's should call the FAA's Office of Rulemaking, (202) 267-9677, for a copy of Advisory Circular No. 11-2A, Notice of Proposed Rulemaking Distribution System, which describes the application procedure.

The Proposal

The FAA is proposing an amendment to 14 CFR part 73 (part 73) that would reconfigure R-3202A, Saylor Creek, ID by establishing a High area from FL 180 to FL 290 and a Low area from the surface to, but not including, FL 180 within the existing R-3202A, and revoke R-3202B and R-3202C. In addition, this action proposes to establish three new Restricted Areas (R-3204A, from the surface to 100 feet AGL; R-3204B, from 100 feet to, but not including, FL 180; and R-3204C, from FL 180 to FL 290) at Juniper, Butte, ID. The proposed restricted airspace for the Juniper Butte range would be established over 12,000-acres with one 300-acre impact area at the approximate center of the area. The proposed restricted airspace would permit the safe delivery of training ordinances into the proposed R-3204A impact area. This proposal eliminates restricted airspace south of the existing Saylor Creek Range and would result in an overall reduction of restricted airspace. The FAA is proposing these efforts to support the USAF rapid-response air expeditionary wing training.

The FAA has determined that this regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The coordinates for this airspace Docket are based on North American Datum 83. Section 73.32 of part 73 of the Federal Aviation Regulations was republished in FAA Order 7400.8G dated September 1, 1999.

Environmental Review

This proposal will be subject to environmental review prior to any FAA final regulatory action.

List of Subjects in 14 CFR Part 73

Airspace, Incorporation by reference, Navigation (air).

The Proposed Amendment

In consideration of the foregoing, the Federal Aviation Administration proposes to amend 14 CFR part 73 as follows:

PART 73—Special Use Airspace

1. The authority citation for 14 CFR part 73 continues to read as follows:

Authority: 49 U.S.C. 106(g), 40103, 40113, 40120; E.O. 10854, 24 FR 9565, 3 CFR, 1959-1963 Comp., p. 389.

§ 73.32 [Amended]

2. Section 73.32 is amended as follows:

* * * * *

R-3202A Saylor Creek, ID [Revoke]

R-3202B Saylor Creek, ID [Revoke]

R-3202C Saylor Creek, ID [Revoke]

R-3202 Saylor Creek Low, ID [New]

Boundaries: Beginning at lat. 42°53′00′′ N., long. 115°42′20′ W.;

at lat. 42°53′00′′ N., long. 115°24′15′′ W.;

at lat. 42°36′00′′ N., long. 115°24′15′′ W.;

at lat. 42°36′00′′ N., long. 115°42′20′′ W.; to point of beginning.

Designated altitudes: Surface to, but not including, FL 180.

Times of use: 0730-2200 local time, Monday through Friday, other times by NOTAM.

Controlling agency: FAA Salt Lake City, ARTCC.

Using agency: USAF, 366th Wing, Mountain Home AFB, ID.

R-3202 Saylor Creek High, ID [New]

Boundaries: Beginning at lat. 42°53′00′′ N., long. 115°42′20′′ W.;

at lat. 42°53′00′′ N., long. 115°24′15′′ W.;

at lat. 42°36′00′′ N., long. 115°24′15′′ W.;

at lat. 42°36′00′′ N., long. 115°42′20′′ W.; to point of beginning.

Designated altitudes: FL 180 to FL 290.

Times of use: 0730-2200 local time, Monday through Friday, other times by NOTAM.

Controlling agency: FAA Salt Lake City, ARTCC.

Using agency: USAF, 366th Wing, Mountain Home AFB, ID.

R-3204A Juniper Buttes, ID [New]

Boundaries: Beginning at lat. 42°20′00′′ N., long. 115°22′30′′ W.;

at lat. 42°20′00′′ N., long. 115°18′00′′ W.;

at lat. 42°19′00′′ N., long. 115°17′00′′ W.;

at lat. 42°16′35′′ N., long. 115°17′00′′ W.;

at lat. 42°16′35′′ N., long. 115°22′30′′ W.; to point of beginning.

Designated altitudes: Surface to 100 feet AGL.

Times of use: 0730-2200 local time, Monday through Friday, other times by NOTAM.

Controlling agency: FAA Salt Lake City, ARTCC.

Using agency: USAF, 366th Wing, Mountain Home AFB, ID.

R-3204B Juniper Buttes, ID [New]

Boundaries: The airspace within a 5 NM radius centered on lat.42°18′00′′ N., long. 115°20′00′′ W.

Designated altitudes: 100 feet AGL to, but not including, FL 180.

Times of use: 0730-2200 local time, Monday through Friday, other times by NOTAM.

Controlling agency: FAA Salt Lake City, ARTCC.

Using agency: USAF, 366th Wing, Mountain Home AFB, ID.

R-3204C Juniper Buttes, ID [New]

Boundaries: The airspace within a 5 NM radius centered on lat.42°18′00′′ N., long. 115°20′00′′ W.

Designated altitudes: FL 180 to FL 290.

Times of use: 0730-2200 local time, Monday through Friday, other times by NOTAM.

Controlling agency: FAA Salt Lake City, ARTCC.

Using agency: USAF, 366th Wing, Mountain Home AFB, ID.

* * * * *

Issued in Washington, DC, on April 19, 2000.
Reginald C. Matthews,
Manager, Airspace and Rules Division.

[FR Doc. 00-10243 Filed 4-24-00; 8:45 am]

BILLING CODE 4910-13-U